DEPARTMENT OF TRANSPORTATION

Surface Transportation Board

[STB Finance Docket No. 35007]

Union Pacific Railroad Company-Temporary Trackage Rights Exemption-BNSF Railway Company

Pursuant to a written trackage rights agreement dated March 15, 2007, BNSF Railway Company (BNSF) has agreed to grant temporary overhead trackage rights to Union Pacific Railroad Company (UP) over approximately 2 miles of BNSF's lines extending between Basta, CA (milepost 163.15), and Fullerton, CA (milepost 165.23).

The transaction is scheduled to be consummated on April 27, 2007. The temporary trackage rights are intended to expire on or about August 28, 2007.¹

¹ In accordance with the trackage rights agreement, UP indicates that it will utilize its trackage rights from April 27, 2007, through May 19, 2007, and from August 7, 2007, through August 28, 2007.

The purpose of the temporary trackage rights is to facilitate maintenance work on UP lines.

As a condition to this exemption, any employee affected by the acquisition of the temporary trackage rights will be protected by the conditions imposed in Norfolk and Western Ry. Co.-Trackage Rights-BN, 354 I.C.C. 605 (1978), as modified in Mendocino Coast Ry., Inc.-Lease and Operate, 360 I.C.C. 653 (1980), and any employee affected by the discontinuance of those trackage rights will be protected by the conditions set out in Oregon Short Line R. Co.-Abandonment-Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the effectiveness of the exemption. Any stay petition must be filed on or before April 13, 2007 (at least 7 days before the exemption becomes effective).

An original and 10 copies of all pleadings, referring to STB Finance Docket No. 35007, must be filed with the Surface Transportation Board, 395 E Street, SW., Washington, DC 20423-0001. In addition, a copy of each pleading must be served on Gabriel S. Meyer, Assistant General Attorney, 1400 Douglas Street, Union Pacific Railroad Company, STOP 1580, Omaha, NE 68179.

Board decisions and notices are available on our Web site at http://www.stb.dot.gov.

Decided: March 28, 2007.
By the Board, David M. Konschnik, Director, Office of Proceedings.
Vernon A. Williams,
Secretary.

[FR Doc. E7-6217 Filed 4-5-07; 8:45 am]

BILLING CODE 4915-01-P